DEPARTMENT OF ENERGY

Federal Energy Regulatory Commission

Notice of Application and Applicant-Prepared Environmental Assessment Tendered and Accepted for Filing, Notice Soliciting Motions To Intervene and Protests, Notice Soliciting Comments, Final Terms and Conditions, Recommendations and Prescriptions, Notice Establishing Procedures for Relicensing and Submission of Final Amendments

November 18, 2002.

Take notice that the following hydroelectric application and applicant-prepared environmental assessment has been tendered and accepted for filing with the Commission, and is available for public inspection:

a. Type of Application: New License.

b. Project No.: 201-014.

c. Date filed: October 30, 2002.

d. Applicant: Petersburg Municipal Power and Light (PMPL).

e. Name of Project: Blind Slough Hydroelectric Project.

f. Location: On Crystal Creek, Mitkof Island, near the City of Petersburg, Alaska.

g. Filed Pursuant to: Federal Power Act 16 U.S.C. 791(a)—825).

h. Applicant Contact: Dennis C. Lewis, Superintendent, Petersburg Municipal Power and Light, P.O. Box 329, 11 South Nordic, Petersburg, Alaska 99833, 907-772-4203, email: pmpl@alaska.net; or Nan A. Nalder, Relicensing Manager, Acres International, 150 Nickerson St., Suite 310, Seattle, WA 98109, 206-352-5730 e-mail: acresnan@serv.net.

i. FERC Contact: Vince Yearick, FERC, 888 First Street, NE., Room 61-11, Washington, DC 20426, (202) 502-6174, e-mail: vince.yearick@ferc.gov.

j. Deadline for filing interventions, protests, comments, recommendations, terms and conditions, and prescriptions: 60 days from the issuance date of this notice; and reply comments 105 days from the date of this notice.

All documents (original and eight copies) should be filed with: Magalie R. Salas, Secretary, Federal Energy Regulatory Commissions, 888 First Street, NE., Washington, DC 20426. Documents may also be filed electronically via the Internet in lieu of paper. See 18 CFR 385.2001(a)(1)(iii) and the instructions on the Commission's Web site at http://www.ferc.gov under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Brief Project Description: The 2.4-megawatt (MW) project is located on Crystal Creek in Southeast Alaska approximately 16.5 highway miles south of the City of Petersburg on the southern portion of Mitkof Island. The project does not occupy any federal lands. The project generates an average of about 11,308,410 kilowatt-hours (kWh) annually which provides approximately 28 percent of PMPL's energy requirements. The project is also the principal source of water supply for the Crystal Lake Hatchery. Petersburg proposes no new capacity and no new construction. The primary features of the project include: a dam at the outlet of Crystal Lake; a pumpback system located at the base of Crystal Lake Dam; approximately 4,600 feet of penstock with a static head of 1,256 feet; two powerhouse structures situated near Blind Slough; and a tailrace system providing water to the fish hatchery and returning water to Crystal Creek.

l. Locations of the application: A copy of the application is available for review at the Commission in the Public Reference Room or may be viewed on the Commission's website at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction by contacting the applicant identified in item h above.

m. Cooperating agencies: We are asking Federal, state, local, and tribal agencies with jurisdiction and/or special expertise with respect to environmental issues to cooperate with us in the preparation of the environmental document. Agencies who would like to request cooperating status should follow the instructions for filing comments described in item o. below.

n. Relicensing schedule and final amendments: The application will be processed according to the following schedule:

Notice of the availability of the NEPA document—April, 2003.

Order issuing the Commission's decision on the application—July, 2003.

Final amendments to the application must be filed with the Commission no later than 45 days from the issuance date of the notice soliciting final terms and conditions.

o. Comments, Recommendations, Terms and Conditions, Prescriptions, and Reply Comments: Anyone may submit comments, a protest, or a motion to intervene in accordance with the requirements of Rules of Practice and Procedures, 18 CFR 385.210, 385.211, 385.214. In determining the appropriate action to take, the Commission will consider all protests or other comments filed, but only those who file a motion to intervene in accordance with the Commission's Rules may become a party to the proceeding. Any comments, protest, or motions to intervene must be received on or before the specified comment date for the particular application.

The Commission directs, pursuant to section 4.34(b) of the regulations (see Order No. 533 issued May 8, 1991, 56 FR 23108, May 20, 1991) that all comments, recommendations, terms and conditions, and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must: (1) Bear in all capital letters the title “PROTEST,” “MOTION TO INTERVENE,” “COMMENTS,” “REPLY COMMENTS,” “RECOMMENDATIONS,” “TERMS AND CONDITIONS,” OR “PRESCRIPTIONS;” (2) set forth in the heading the name of the applicant and the project number of the application to which the filing responds; (3) furnish the name, address, and telephone number of the person protesting or intervening; (4) otherwise comply with the requirements of 18 CFR 385.2001 through 385.2005. All comments, recommendations, terms and conditions or prescriptions must set forth their evidentiary basis; and otherwise comply with the requirements of 18 CFR 4.34(b). Agencies may obtain copies of the application directly from the applicant. Any of these documents must be filed by providing the original and the number of copies required by the Commission's regulations to: The Secretary, Federal Energy Regulatory Commission, 888 First Street, NE., Washington, DC 20426. A copy of any protest or motion to intervene must be served upon each representative of the applicant specified in the particular application.

A copy of all other filings in reference to this application must be accompanied by proof of service on all persons listed in the service list prepared by the Commission in this proceeding, in accordance with 18 CFR 4.34(b) and 385.2010.

Linwood A. Watson, Jr.,
Deputy Secretary.

[FR Doc. 02-29746 Filed 11-21-02; 8:45 am]

BILLING CODE 6717-01-P